DEPARTMENT OF HEALTH AND HUMAN SERVICES

Administration for Children and Families

45 CFR Part 1356

Title IV-E Program; Correction

AGENCY: Children's Bureau, Administration on Children, Youth and Families (ACYF), Administration for Children and Families (ACF), Department of Health and Human Services (HHS).

ACTION: Correcting amendment.

SUMMARY: The Department of Health and Human Services published an interim final rule in the Federal Register on January 6, 2012, that revised regulations for the title IV-E program. The interim final rule inadvertently included incorrect numbering of one paragraph. This document corrects the numbering of that paragraph.

DATES: Effective on July 15, 2022.

FOR FURTHER INFORMATION CONTACT: Kathleen McHugh, Director, Policy Division, Children's Bureau, cbcomments@acf.hhs.gov, 202-401-5789.

SUPPLEMENTARY INFORMATION: The Department of Health and Human Services published an interim final rule in the Federal Register on January 6, 2012 (77 FR 950), effective on February 6, 2012, that revised regulations for the title IV-E program to implement statutory provisions related to the tribal title IV-E program (see section 479B of the Social Security Act (the Act) that authorizes direct federal funding of Indian tribes, tribal organizations, and tribal consortia that choose to operate a foster care, adoption assistance and, at tribal option, a kinship guardianship assistance program under title IV-E of the Act). The interim final rule inadvertently included incorrect numbering of one paragraph in 45 CFR 1356.60(a) regarding requirements for Federal matching funds for title IV-E foster care maintenance and adoption assistance payments. This document corrects the regulations by revising this section.

(Catalog of Federal Domestic Assistance Program Number 93.658, Foster Care Maintenance; 93.659, Adoption Assistance; 93.645, Child Welfare Services—State Grants)

List of Subjects in 45 CFR Part 1356

Adoption and foster care, Child welfare, Grant programs—social programs.

Wilma M. Robinson,
Deputy Executive Secretary, Department of Health and Human Services.

Accordingly, 45 CFR part 1356 is corrected by making the following correcting amendments:

PART 1356—REQUIREMENTS APPLICABLE TO TITLE IV-E

1. The authority citation for part 1356 continues to read as follows:

Authority: 42 U.S.C. 620 et seq., 42 U.S.C. 670 et seq.; 42 U.S.C. 1302.

2. Amend § 1356.60 by revising paragraph (a) to read as follows:

§ 1356.60 Fiscal requirements (title IV-E).

(a) Federal matching funds for foster care maintenance and adoption assistance payments. (1) Federal financial participation (FFP) is available to title IV-E agencies under an approved title IV-E plan for allowable costs in expenditures for:

(i) Foster care maintenance payments as defined in section 475(4) of the Act, made in accordance with §§ 1356.20 through 1356.30, section 472 of the Act, and, for a Tribal title IV-E agency, section 479B of the Act; and

(ii) Adoption assistance payments made in accordance with §§ 1356.20 and 1356.40, applicable provisions of section 473, section 475(3), and, for a Tribal title IV-E agency, section 479B of the Act.

(2) Federal financial participation is available at the rate of the Federal medical assistance percentage as defined in section 1905(b), 474(a)(1) and (2), and 479B(d) of the Act as applicable, definitions, and pertinent regulations as promulgated by the Secretary, or the designee.

* * * * *

[FR Doc. 2022-15076 Filed 7-14-22; 8:45 am]

BILLING CODE 4184-25-P